DEPARTMENT OF TRANSPORTATION

Federal Aviation Administration

14 CFR Part 39

[Docket No. FAA-2010-0706; Directorate Identifier 2010-NM-064-AD; Amendment 39-16683; AD 2011-10-02]

RIN 2120-AA64

Airworthiness Directives; The Boeing Company Model 747-400, 747-400D, and 747-400F Series Airplanes Equipped With General Electric CF6-80C2 or Pratt & Whitney PW4000 Series Engines

AGENCY: Federal Aviation Administration (FAA), DOT.

ACTION: Final rule.

SUMMARY: We are adopting a new airworthiness directive (AD) for the products listed above. This AD requires modifying certain thrust reverser control system wiring to the flap control unit (FCU). This AD was prompted by a report of automatic retraction of the leading edge flaps due to indications transmitted to the FCU from the thrust reverser control system during takeoff. We are issuing this AD to prevent automatic retraction of the leading edge flaps during takeoff, which could result in reduced climb performance and consequent collision with terrain and obstacles or forced landing of the airplane.

DATES: This AD is effective June 15, 2011.

The Director of the Federal Register approved the incorporation by reference of certain publications listed in the AD as of June 15, 2011.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Tung Tran, Aerospace Engineer, Propulsion Branch, ANM-140S, FAA, Seattle Aircraft Certification Office, 1601 Lind Avenue, SW., Renton, Washington 98057-3356; phone: 425-917-6505; fax 425-917-6590; e-mail: tung.tran@faa.gov.

SUPPLEMENTARY INFORMATION:

Discussion

We issued a notice of proposed rulemaking (NPRM) to amend 14 CFR part 39 to include an airworthiness directive (AD) that would apply to the specified products. That NPRM published in the Federal Register on August 5, 2010 (75 FR 47245). That NPRM proposed to require modifying certain thrust reverser control system wiring to the flap control unit (FCU).

Comments

We gave the public the opportunity to participate in developing this AD. The following presents the comments received on the proposal and the FAA's response to each comment.

Support for the NPRM

Boeing, Airline Pilots Association, International (ALPA), and Japan Airlines International (JAL) support the intent of the NPRM.

Requests To Use Latest Service Information

JAL and All Nippon Airways (ANA) requested that we update the NPRM to reference Boeing Special Attention Service Bulletin 747-78-2183, Revision 1, dated December 23, 2010. The commenters stated that Boeing has issued Boeing Service Bulletin Information Notice 747-78-2183 IN 01, dated May 6, 2010, to correct the operational test procedure. The NPRM referred to Boeing Special Attention Service Bulletin 747-78-2183, dated January 12, 2010.

We agree to reference the latest service information and have changed paragraph (h) of this AD to reference Boeing Special Attention Service Bulletin 747-78-2183, Revision 1, dated December 23, 2010. We have also changed paragraph (g) of this AD to reference Boeing Alert Service Bulletin 747-78A2184, Revision 1, dated December 23, 2010, which was also revised (the NPRM referred to Boeing Alert Service Bulletin 747-78A2184, dated January 12, 2010). Changes to these service bulletins include changes to the functional test tasks to better describe the use of pneumatic and electrical power, and to provide a better sequence of test tasks.

We have also added paragraph (i) to this AD to give credit to operators for accomplishing the actions specified in Boeing Special Attention Service Bulletin 747-78-2183 and Boeing Alert Service Bulletin 747-78A2184, both dated January 12, 2010. We have re-identified subsequent paragraphs accordingly.

Conclusion

We reviewed the relevant data, considered the comments received, and determined that air safety and the public interest require adopting the AD with the changes described previously—and minor editorial changes. We have determined that these minor changes:

• Are consistent with the intent that was proposed in the NPRM for correcting the unsafe condition; and

• Do not add any additional burden upon the public than was already proposed in the NPRM.

We also determined that these changes will not increase the economic burden on any operator or increase the scope of the AD.

Costs of Compliance

We estimate that this AD affects 98 airplanes of U.S. registry. We estimate that it will take 1 work-hour per product to comply with this AD. The average labor rate is $85 per work-hour. Required parts would cost $0 per product. Based on these figures, we estimate the cost of this AD to the U.S. operators to be $8,330, or $85 per product.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-10-02 The Boeing Company: Amendment 39-16683; Docket No. FAA-2010-0706; Directorate Identifier 2010-NM-064-AD.

Effective Date

(a) This AD is effective June 15, 2011.

Affected ADs

(b) None.

Applicability

(c) This AD applies to The Boeing Company Model 747-400, 747-400D, and 747-400F series airplanes; certificated in any category; equipped with General Electric CF6-80C2 series engines or Pratt & Whitney PW4000 series engines, as applicable.

Subject

(d) Air Transport Association (ATA) of America Code 78: Engine exhaust.

Unsafe Condition

(e) This AD was prompted by a report of automatic retraction of the leading edge flaps due to indications transmitted to the flap control unit (FCU) from the thrust reverser control system during takeoff. The Federal Aviation Administration is issuing this AD to prevent automatic retraction of the leading edge flaps during takeoff, which could result in reduced climb performance and consequent collision with terrain and obstacles or forced landing of the airplane.

Compliance

(f) You are responsible for having the actions required by this AD performed within the compliance times specified, unless the actions have already been done.

Modification

(g) For Model 747-400 and -400F airplanes equipped with Pratt & Whitney Model PW4000 series engines: Within 36 months after the effective date of this AD, modify the thrust reverser control system wiring to the FCU in the P252 and P253 thrust reverser relay panels, in accordance with the Accomplishment Instructions of Boeing Alert Service Bulletin 747-78A2184, Revision 1, dated December 23, 2010.

(h) For Model 747-400, -400D, and -400F airplanes equipped with General Electric Model CF6-80C2 series engines: Within 36 months after the effective date of this AD, modify the thrust reverser control system wiring to the FCU in the P414 and P415 power distribution panels, in accordance with Boeing Special Attention Service Bulletin 747-78-2183, Revision 1, dated December 23, 2010.

Credit for Actions Accomplished in Accordance With Previous Service Information

(i) Modifying the thrust reverser control system wiring before the effective date of this AD, in accordance with Boeing Special Attention Service Bulletin 747-78-2183 or Boeing Alert Service Bulletin 747-78A2184, both dated January 12, 2010, as applicable, is acceptable for compliance with the corresponding modification required by paragraph (g) or (h) of this AD.

Alternative Methods of Compliance (AMOCs)

(j)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

Related Information

(k) For more information about this AD, contact Tung Tran, Aerospace Engineer, Propulsion Branch, ANM-140S, FAA, Seattle Aircraft Certification Office, 1601 Lind Avenue, SW., Renton, Washington 98057-3356; phone: 425-917-6505; fax: 425-917-6590; e-mail: tung.tran@faa.gov.

(l) For information about AMOCs, contact Tung Tran, Aerospace Engineer, Propulsion Branch, ANM-140S, FAA, Seattle Aircraft Certification Office, 1601 Lind Avenue, SW., Renton, Washington 98057-3356; phone: 425-917-6505; fax: 425-917-6590; e-mail: tung.tran@faa.gov.

Material Incorporated by Reference

(m) You must use Boeing Special Attention Service Bulletin 747-78-2183, Revision 1, dated December 23, 2010; or Boeing Alert Service Bulletin 747-78A2184, Revision 1, dated December 23, 2010; as applicable; to do the actions required by this AD, unless the AD specifies otherwise.

(1) The Director of the Federal Register approved the incorporation by reference of the service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on April 20, 2011.
Kalene C. Yanamura,
Acting Manager, Transport Airplane Directorate, Aircraft Certification Service.

[FR Doc. 2011-10692 Filed 5-10-11; 8:45 am]

BILLING CODE 4910-13-P